DEPARTMENT OF TRANSPORTATION

Federal Aviation Administration

14 CFR Part 97

[Docket No. 30611; Amdt. No 3272]

Standard Instrument Approach Procedures, and Takeoff Minimums and Obstacle Departure Procedures; Miscellaneous Amendments

AGENCY: Federal Aviation Administration (FAA), DOT.

ACTION: Final rule.

SUMMARY: This Rule establishes, amends, suspends, or revokes STANDARD Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 13, 2008. The compliance date for each SIAP, associated Takeoff Minimums, and ODP is specified in the amendatory provisions.

The incorporation by reference of certain publications listed in the regulations is approved by the Director of the Federal Register as of June 13, 2008.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an Identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. This, the advantages of incorporation by reference are realized and publication of the complete description of each SIAP, Takeoff Minimums and ODP listed on FAA forms is unnecessary. This amendment provides the affected CFR sections and specifies the types of SIAPs and the effective dates of the, Associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on May 30, 2008.
James J. Ballough,
Director, Flight Standards Service.

Adoption of the Amendment

Accordingly, pursuant to the authority delegated to me, Under Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 3 JUL 2008

Gary, IN, Gary/Chicago Intl, RNAV (RNP) RWY 30, Orig-A

Linden, MI, Prices, RNAV (GPS) RWY 9, Amdt 1

Linden, MI, Prices, RNAV (GPS) RWY 27, Amdt 1

Effective 31 JUL 2008

Anniston, AL, Anniston Metropolitan, ILS OR LOC RWY 5, Amdt 2

Anniston, AL, Anniston Metropolitan, NDB RWY 5, Amdt 3

Anniston, AL, Anniston Metropolitan, RNAV (GPS) RWY 5, Orig

Anniston, AL, Anniston Metropolitan, RNAV (GPS) RWY 23, Orig

St Elmo, AL, St Elmo, GPS RWY 6, Orig, CANCELLED

St Elmo, AL, St Elmo, RNAV (GPS) RWY 6, Orig

San Jose, CA, Norman Y. Mineta/San Jose Intl, RNAV (GPS) Y RWY 12R, Amdt 2

San Jose, CA, Norman Y. Mineta/San Jose Intl, RNAV (GPS) Y RWY 30L, Amdt 2

San Jose, CA, Norman Y. Mineta/San Jose Intl, RNAV (RNP) Z RWY 12R, Orig

San Jose, CA, Norman Y. Mineta/San Jose Intl, RNAV (RNP) Z RWY 30L, Orig

Hayden, CO, Yampa Valley, VOR-A, Amdt 4, CANCELLED

Montrose, CO, Montrose Regional, VOR RWY 13, Amdt 7B, CANCELLED

Pueblo, CO, Pueblo Memorial, NDB RWY 26R, Amdt 17A, CANCELLED

Naples, FL, Naples Muni, Takeoff Minimums and Obstacle DP, Amdt 1

Decorah, IA, Decorah Muni, RNAV (GPS) RWY 29, Orig

Decorah, IA, Decorah Muni, VOR/DME RNAV OR GPS RWY 29, Amdt 3A, CANCELLED

Muscatine, IA, Muscatine Muni, VOR RWY 24, Orig-B, CANCELLED

West Union, IA, George L. Scott Muni, NDB RWY 35, Amdt 4, CANCELLED

Boise, ID, Boise Air Terminal/Gowen Fld, VOR RWY 10R, Orig-A, CANCELLED

Cahokia/St. Louis, IL, St. Louis Downtown, ILS OR LOC RWY 30L, Amdt 9

Chicago/Aurora, IL, Aurora Muni, VOR-A, Amdt 2A, CANCELLED

Pontiac, IL, Pontiac Muni, GPS RWY 24, Orig, CANCELLED

Pontiac, IL, Pontiac Muni, RNAV (GPS) RWY 6, Orig

Pontiac, IL, Pontiac Muni, RNAV (GPS) RWY 24, Orig

Pontiac, IL, Pontiac Muni, Takeoff Minimums and Obstacle DP, Orig

Pontiac, IL, Pontiac Muni, VOR RWY 24, Amdt 2

Madison, IN, Madison Muni, RNAV (GPS) RWY 3, Amdt 1

Madison, IN, Madison Muni, Takeoff Minimums and Obstacle DP, Amdt 2

Madison, IN, Madison Muni, VOR/DME RWY 3, Amdt 9

Pratt, KS, Pratt Industrial, RNAV (GPS) RWY 17, Amdt 1

Pratt, KS, Pratt Industrial, RNAV (GPS) RWY 35, Amdt 1

Pratt, KS, Pratt Industrial, Takeoff Minimums and Obstacle DP, Orig

Monroe, MI, Custer, RNAV (GPS) RWY 3, Orig

Monroe, MI, Custer, RNAV (GPS) RWY 21, Orig

Monroe, MI, Custer, Takeoff Minimums and Obstacle DP, Amdt 6

Monroe, MI, Custer, VOR RWY 3, Amdt 2

Monroe, MI, Custer, VOR RWY 21, Amdt 2

Alexandria, MN, Chandler Field, RNAV (GPS) RWY 31, Amdt 1

Fayetteville, NC, Fayetteville Rgnl/Grannis Field, Takeoff Minimums and Obstacle DP, Orig

Crete, NE, Crete Muni, GPS RWY 35, Orig-A, CANCELLED

Crete, NE, Crete Muni, RNAV (GPS) RWY 17, Amdt 1

Crete, NE, Crete Muni, RNAV (GPS) RWY 35, Orig

Crete, NE, Crete Muni, Takeoff Minimums and Obstacle DP, Amdt 1

Crete, NE, Crete Muni, VOR/DME RWY 17, Amdt 4

Wahoo, NE, Wahoo Muni, GPS RWY 20, Orig-A, CANCELLED

Wahoo, NE, Wahoo Muni, NDB RWY 20, Amdt 3

Wahoo, NE, Wahoo Muni, RNAV (GPS) RWY 20, Orig

Wahoo, NE, Wahoo Muni, Takeoff Minimums and Obstacle DP, Orig

Newark, OH, Newark-Heath, Takeoff Minimums and Obstacle DP, Amdt 2

Newark, OH, Newark-Heath, VOR-A, Amdt 13

Versailles, OH, Darke County, NDB OR GPS RWY 27, Orig, CANCELLED

Versailles, OH, Darke County, RNAV (GPS) RWY 9, Orig

Versailles, OH, Darke County, RNAV (GPS) RWY 27, Orig

Wapakoneta, OH, Neil Armstrong, GPS RWY 8, Orig-A, CANCELLED

Wapakoneta, OH, Neil Armstrong, RNAV (GPS) RWY 8, Orig

Wapakoneta, OH, Neil Armstrong, RNAV (GPS) RWY 26, Orig

Wapakoneta, OH, Neil Armstrong, Takeoff Minimums and Obstacle DP, Amdt 2

Wapakoneta, OH, Neil Armstrong, VOR/DME RNAV OR GPS RWY 26, Amdt 5C, CANCELLED

Prineville, OR, Prineville Muni, Takeoff Minimums and Obstacle DP, Amdt 1

San Juan, PR, Luis Munoz Marin Intl, Takeoff Minimums and Obstacle DP, Amdt 6

Wise, VA, Lonesome Pine, LOC/DME RWY 24, Orig-A, CANCELLED

[FR Doc. E8-12867 Filed 6-12-08; 8:45 am]

BILLING CODE 4910-13-P